DEPARTMENT OF LABOR

Employment and Training Administration

[TA-W-55,662]

JDS Uniphase, Ewing, NJ; Notice of Termination of Investigation

Pursuant to Section 221 of the Trade Act of 1974, as amended, an investigation was initiated on September 23, 2004 in response to a petition filed by a State agency representative on behalf of workers at JDS Uniphase, Ewing, New Jersey. Workers at the subject firm produced advanced fiber optics components.

The petitioner has requested that the petition be withdrawn. Consequently, further investigation in this case would serve no purpose, and the investigation has been terminated.

Signed in Washington, DC this 19th day of October 2004.
Richard Church,
Certifying Officer, Division of Trade Adjustment Assistance.

[FR Doc. E4-3022 Filed 11-4-04; 8:45 am]

BILLING CODE 4510-30-P